DEPARTMENT OF ENERGY

Federal Energy Regulatory Commission

[Project No. 13793-000]

Pajuela Peak Hydro, LLC; Notice of Preliminary Permit Application Accepted for Filing and Soliciting Comments, Motions To Intervene, and Competing Applications

August 26, 2010.

On May 20, 2010, Pajuela Peak Hydro, LLC filed an application for a preliminary permit, pursuant to section 4(f) of the Federal Power Act, proposing to study the feasibility of the Pajuela Peak Pumped Storage Project, located in Kern County, in the state of California. The sole purpose of a preliminary permit, if issued, is to grant the permit holder priority to file a license application during the permit term. A preliminary permit does not authorize the permit holder to perform any land disturbing activities or otherwise enter upon lands or waters owned by others without the owners' express permission.

The proposed project would consist of the following developments:

(1) A proposed 235-ft concrete upper dam with a 1,530-ft length at crest and hydraulic head of 1,465 feet; (2) a proposed 50-ft zoned earth and rockfill lower dam with a 5,896-ft length at crest; (3) four proposed steel penstocks; (4) a proposed upper reservoir with a surface area of 80 acres and a storage capacity of 5,964 acre-feet and maximum water surface elevation of 5,425 feet mean sea level; (5) a proposed lower reservoir with a surface area of 60 acres and a storage capacity of 5,964 acre-feet and maximum water surface elevation of 4,060 feet mean sea level; (6) a proposed unlined upper low-pressure tunnel 2,500 ft-long conduit with a diameter of 14.7 feet; (7) a proposed high pressure tunnel 3,114 ft-long conduit with a diameter of 14.7 feet (8) a proposed powerhouse containing one 150 MW and two 50 MW reversible pump/turbine generating units having an installed capacity of 250 megawatts; (9) a proposed 230 kV line interconnection with either of two SCE substations or a LADWP line. The proposed development would have an average annual generation of 766,500 megawatt-hours.

Applicant Contact: Matther Shapiro, CEO; Gridflex Energy, LLC; 1210 W. Franklin Street, Ste. 2; Boise, ID 83702; (208) 246-9925.

FERC Contact: Mary Greene, 202-502-8865.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13793) in the docket number field to access the document. For assistance, contact FERC Online Support.

Kimberly D. Bose,
Secretary.

[FR Doc. 2010-21964 Filed 9-1-10; 8:45 am]

BILLING CODE 6717-01-P